DEPARTMENT OF ENERGY

Federal Energy Regulatory Commission

Notice of Revisions to FERC Online, eSubscription Service

Take notice that on March 30, 2012, the Federal Energy Regulatory Commission (Commission) will update its eSubscription service that provides email notification when documents are added to eLibrary in a subscribed-to docket. eSubscription is one of the Commission's “FERC Online” services available to users that have established an eRegistration account on www.ferc.gov.

Currently, when users eSubscribe to a docket or project number they are provided options to: (1) “Subscribe to open dockets only”; (2) “subscribe to the docket only”; or (3) “subscribe to the root and all existing and new sub-dockets.” To ensure that eSubscribers receive all of the email notifications relating to dockets they are subscribed to, the new release will only offer subscription to a docket or project number without the additional options mentioned above (e.g. options (1) and (2)). With this update, existing eSubscriptions will default to the root and all sub-dockets in subscribed-to dockets. eSubscribing to Commission Press Releases will not be affected by this update and will continue to be available for eSubscription.

Accordingly, this update will ensure that eSubscribers receive email notifications when various types of documents are added to a subscribe-to docket(s) in eLibrary, even if those documents are assigned new sub-dockets (e.g., requests for rehearing) or are filed in a “closed” docket.

For questions about eSubscription or assistance, please contact efiling@ferc.gov or call 202-502-8258.

Dated: March 28, 2012.
Kimberly D. Bose,
Secretary.

[FR Doc. 2012-8022 Filed 4-3-12; 8:45 am]

BILLING CODE 6717-01-P